DEPARTMENT OF HOMELAND SECURITY

Coast Guard

[Docket No. USCG-2020-0488]

National Commercial Fishing Safety Advisory Committee; Vacancy

AGENCY: U.S. Coast Guard, Department of Homeland Security.

ACTION: Request for applications; re-solicitation for members.

SUMMARY: The Coast Guard is re-soliciting applications from persons interested in membership on the National Commercial Fishing Safety Advisory Committee (Committee). This recently established Committee will advise the Secretary of the Department of Homeland Security on matters relating to national commercial fishing safety. Please read this notice for a description of the 18 Committee positions we are seeking to fill.

DATES: Your completed application should reach the Coast Guard on or before December 14, 2020.

ADDRESSES: Applicants should send a cover letter expressing interest in an appointment to the National Commercial Fishing Safety Advisory Committee and a resume detailing the applicant's experience and which specific position(s) applying for. We will not accept a biography. Applications should be submitted via one of the following methods:

• By Email: CGfishsafe@uscg.mil (preferred).

• By Mail: Commandant (CG-CVC-3), Attn: NCFSAC ADFO, U.S. Coast Guard Stop 7501, 2703 Martin Luther King Jr. Avenue SE, Washington, DC 20593-7501.

FOR FURTHER INFORMATION CONTACT: Mr. Jonathan Wendland, Alternate Designated Federal Officer of the National Commercial Fishing Safety Advisory Committee; Telephone 202-372-1245 or Email at CGfishsafe@uscg.mil.

SUPPLEMENTARY INFORMATION: On February 21, 2020, the U.S. Coast Guard published the initial request for applications in the Federal Register (85 FR 10179) for membership in the National Commercial Fishing Safety Advisory Committee. On June 1, 2020, the deadline for applications for membership was extended. Due to a lack of applications received from the initial request for applications and the June 1, 2020 extension notice, the Coast Guard is re-soliciting applications. Applicants who responded to either the initial request for applications or to the June 1, 2020 extension notice do not need to reapply.

The National Commercial Fishing Safety Advisory Committee is a federal advisory committee. It will operate under the provisions of the Federal Advisory Committee Act, 5 U.S.C. Appendix, and the administrative provisions contained in Section 601 of the Frank LoBiondo Coast Guard Authorization Act of 2018 (specifically, 46 U.S.C. 15109).

The Committee was established on December 4, 2018, by the Frank LoBiondo Coast Guard Authorization Act of 2018, which added section 15102, National Commercial Fishing Safety Advisory Committee, to Title 46 of the U.S. Code (46 U.S.C. 15102). The Committee will advise the Secretary of Homeland Security on matters relating to national commercial fishing safety.

In accordance with 46 U.S.C. 15109(a), the Committee is required to hold meetings at least once a year, but it may meet more frequently as needs may require. The meetings are held at a location selected by the U.S. Coast Guard.

All members will serve at their own expense and receive no salary or other compensation from the Federal Government, with the exception that members may be reimbursed for travel and per diem in accordance with Federal Travel Regulations.

Under 46 U.S.C. 15109(f)(6), membership terms expire on December 31 of the third full year after the effective date of appointment. The Secretary may require an individual to have passed an appropriate security background examination before appointment to the Committee, 46 U.S.C. 15109(f)(4). In this re-solicitation for Committee members, we will consider applications for the following positions:

(A) Ten members shall represent the commercial fishing industry and—

(i) as a group, shall together reflect a regional and representational balance; and

(ii) as individuals each shall have experience—

(I) in the operation in which chapter 45 of this title applies; or

(II) as a crew member or processing line worker on a fish processing vessel.

(B) One member shall represent naval architects and marine engineers.

(C) One member shall represent manufacturers of equipment for vessels to which Chapter 45 of this title applies.

(D) One member shall represent education and training professionals related to fishing vessels, fish processing vessels, and fish tender vessels safety and personnel qualifications.

(E) One member shall represent underwriters that insure vessels to which chapter 45 of this title applies.

(F) One member shall represent owners of vessels to which chapter 45 of this title applies.

(G) Three members shall represent the general public and to the extent possible, shall include—

(i) an independent expert or consultant in maritime safety,

(ii) a marine surveyor who provides services to vessels to which chapter 45 of this title applies; and

(iii) a person familiar with issues affecting fishing communities and the families of fishermen.

Each member of the Committee must have particular expertise, knowledge, and experience in matters relating to the function of the Committee, which is to advise the Secretary of Homeland Security on matters related to national commercial fishing safety.

If you are selected as a member drawn from the general public, you will be appointed and serve as a Special Government Employee as defined in 18 U.S.C. 202(a). Applicants for appointment as a Special Government Employee are required to complete a Confidential Financial Disclosure Report (OGE Form 450) for new entrants and if appointed as a member must submit a new entrant OGE Form 450 annually. The Coast Guard may not release the reports or the information in them to the public except under an order issued by a Federal Court or as otherwise provided under the Privacy Act (5 U.S.C. 552a). Only the Designated U.S. Coast Guard Ethics Official or his or her designee may release a Confidential Financial Disclosure Report. Applicants can obtain this form by going to the website of the Office of Government Ethics (www.oge.gov), or by calling or emailing the individual listed above in the FOR FURTHER INFORMATION CONTACT section. Applications for members drawn from the general public must be accompanied by a completed OGE Form 450.

Registered lobbyists are not eligible to serve on Federal Advisory Committees in an individual capacity. See “Revised Guidance on Appointment of Lobbyists to Federal Advisory Committees, Boards and Commissions” (79 FR 47482, August 13, 2014). Registered lobbyists are “lobbyists,” as defined in 2 U.S.C. 1602, who are required by 2 U.S.C. 1603 to register with the Secretary of the Senate and the Clerk of the House of Representatives.

The Department of Homeland Security does not discriminate in selection of Committee members on the basis of race, color, religion, sex, national origin, political affiliation, sexual orientation, gender identity, marital status, disabilities and genetic information, age, membership in an employee organization, or any other non-merit factor. The Department of Homeland Security strives to achieve a widely diverse candidate pool for all of its recruitment selections.

If you are interested in applying to become a member of the Committee, send your cover letter and resume to Mr. Jonathan Wendland, Alternate Designated Federal Officer of the National Commercial Fishing Safety Advisory Committee via one of the transmittal methods in the ADDRESSES section by the deadline in the DATES section of this notice.

If you send your application to us via email, we will send you an email confirming receipt of your application.

Dated: October 6, 2020.
Wayne R. Arguin, Jr.,
Captain, U.S. Coast Guard, Director of Inspections and Compliance.

[FR Doc. 2020-22571 Filed 10-9-20; 8:45 am]

BILLING CODE 9110-04-P